DEPARTMENT OF HEALTH AND HUMAN SERVICES

Health Resources and Services Administration

Agency Information Collection Activities: Submission for OMB Review; Comment Request

AGENCY: Health Resources and Services Administration, HHS.

ACTION: Correction in Burden Table.

SUMMARY: The Health Resources and Services Administration published an Agency Information Collection document in the Federal Register of September 17, 2010 (FR Doc. 201-023260), on page 57037, regarding the Black Lung Clinics Program Database (OMB No. 0915-0292). In the burden table, the Total responses, Hours per response and Total burden hours are incorrect.

Correction

In the Federal Register issue of September 17, 2010, FR Doc. 201-023260, on page 57037, correct the Total responses, Hours per response and Total burden hours as follows:

Instrument | Number of respondents | Responses per respondent | Total responses | Hours per response | Total burden hours
Database | 15 | 1 | 15 | 20 | 300

Dated: September 28, 2010.
Sahira Rafiullah,
Director, Division of Policy and Information Coordination.

[FR Doc. 2010-25113 Filed 10-5-10; 8:45 am]

BILLING CODE 4165-15-P